DEPARTMENT OF TRANSPORTATION

Federal Railroad Administration

[Docket Number FRA-2017-0031]

Notice of Application for Approval of Discontinuance or Modification of a Railroad Signal System

Under part 235 of Title 49 of the Code of Federal Regulations and 49 U.S.C. 20502(a), this document provides the public notice that on April 11, 2017, National Railroad Passenger Corporation (Amtrak) petitioned the Federal Railroad Administration (FRA) seeking approval for the discontinuance or modification of a signal system. FRA assigned the petition Docket Number FRA-2017-0031.

Applicant: National Railroad Passenger Corporation, Mr. Nicholas J. Croce III, PE, Deputy Chief Engineer C&S, Acting, 2995 Market Street, Philadelphia, PA 19104.

Amtrak is the owner and operator of this signal system, and the Connecticut Southern Railroad, CSX Transportation, and Pan Am Railways operate on portions of this line as tenants with trackage rights.

The project is located on Amtrak's New Haven to Springfield Corridor from milepost (MP) 1.5 to MP 46.3 on the New England Division. The tracks involved are existing main Track No. 1 and new Track No. 2. The project includes the following additions and modifications to the rail infrastructure:

• A second mainline track between Cedar and Wood interlockings which allows retirement of two end of siding interlockings, Quarry Interlocking at MP 20.6 and New Interlocking at MP 31.1;

• A second mainline track between Hart and Hayden interlockings which allows for the retirement of Windsor Interlocking, an end of siding interlocking at MP 43.0;

• A new siding track between Hart and Midland interlockings;

• Cedar Interlocking will be relocated from MP 7.0 to MP 7.4 and upgraded from an end of siding to a universal crossover;

• Holt Interlocking will be relocated from MP 17.1 to MP 16.6 and upgraded from an end of siding to a universal crossover;

• A new interlocking “Willow” will be added at MP 26.6;

• A new interlocking “Midland” will be added at MP 39.1; and

• A complete replacement of the automatic block signal system with Northeast Operating Rules Advisory Committee Rule 562 territory from Mill River to Wood and from Hart to Hayden.

All interlockings in each section will be equipped with Clear to Next Interlocking signals where entering cab, no wayside territory.

As a result of the above, Amtrak requests to retire the following infrastructure from service:

• Control point Wall at MP 13.3;

• Fixed wayside automatic block signals on Track No. 1 between Mill River and Wood;

• Fixed wayside automatic block signals on Track No. 1 between Hart and Hayden;

• Fixed wayside automatic block signals on Track No. 2 between Mill River and Cedar;

• Fixed wayside automatic block signals on Track No. 2 between Holt and Quarry; and

• Fixed wayside automatic block signals on Track No. 2 between New and Wood.

Amtrak has begun the joint project with the Connecticut Department of Transportation and FRA and anticipates completion in April of 2018.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by June 22, 2017 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
Robert C. Lauby,
Associate Administrator for Railroad Safety, Chief Safety Officer.

[FR Doc. 2017-09262 Filed 5-5-17; 8:45 am]

BILLING CODE 4910-06-P